DEPARTMENT OF THE INTERIOR

Bureau of Land Management

[LLNVSO0500.L58530000.ER0000; N-85687; 9-08807; TAS:14X5232)

Notice of Realty Action: Recreation and Public Purposes Act Classification of Public Land, Clark County, NV

AGENCY: Bureau of Land Management, Interior.

ACTION: Notice of realty action.

SUMMARY: The Bureau of Land Management (BLM) has examined and found suitable for classification for lease and subsequent conveyance under the provisions of the Recreation and Public Purposes (R&PP) Act, as amended, approximately 5.09 acres of public land in Clark County, Nevada. The City of North Las Vegas (City) proposes to use the land for a police substation, offices, and a yard site with related appurtenances.

DATE: Interested parties may submit written comments regarding the proposed lease and subsequent conveyance of the lands until December 28, 2009.

ADDRESSES: Mail written comments to the BLM Field Manager, Las Vegas Field Office, 4701 N. Torrey Pines Drive, Las Vegas, NV 89130.

FOR FURTHER INFORMATION CONTACT: Cheryl G. Cote, (702) 515-5104.

SUPPLEMENTARY INFORMATION: The following described land in Clark County, Nevada, has been examined and found suitable for lease and subsequent conveyance under the provisions of the R&PP Act, as amended (43 U.S.C. 869 et seq.). The parcel of land is located on the east side of Pecos Road approximately one-eighth mile north of the Pecos Road and Centennial Parkway intersection and is legally described as:

Mount Diablo Meridian

T. 19 S., R. 62 E.,

Sec. 19, portion of lot 19.

This description will be replaced by another lot designation on final approval of the official plat of survey. The area described contains 5.09 acres, more or less, in Clark County.

The City filed an R&PP application to develop the above described land as an offices and yard site. The proposed facilities consist of offices, a yard area, and related appurtenances for various City departments, such as police, parks and recreation, public works, and utilities. It will provide a critical hub for the City to provide essential maintenance, operations, and safety services to the public. Related facilities include a modular building, outdoor vehicle storage, public parking, utilities, landscaping, and an exterior chain link fence. Additional detailed information pertaining to this application, plan of development, and site plan is located in case file N-85687 at the Bureau of Land Management (BLM) Las Vegas Field Office at the address above.

The City is a political subdivision of the State of Nevada and is therefore a qualified applicant under the R&PP Act. The lease and subsequent conveyance is consistent with the BLM Las Vegas Resource Management Plan, dated October 5, 1998, and would be in the public interest.

The lease and subsequent conveyance will be subject to the provisions of the R&PP Act and applicable regulations of the Secretary of the Interior, and will be subject to the following terms, conditions and reservations:

1. A right-of-way thereon for ditches or canals constructed by the authority of the United States, Act of August 30, 1890 (43 U.S.C. 945);

2. All minerals shall be reserved to the United States, together with the right to prospect for, mine and remove such deposits from the same under applicable law and such regulations as the Secretary of the Interior may prescribe;

3. Right-of-way N-54351 for fiber optic facilities purposes reserved to the U.S. Air Force, its successors and assigns, pursuant to section 507 of the Federal Land Policy and Management Act of 1976 (FLPMA), as amended (43 U.S.C. 1767);

4. Valid existing rights;

5. Right-of-way N-42581 for a gas pipeline purposes granted to Kern River Gas Transmission Company, its successors and assigns, pursuant to section 501 of the Mineral Leasing Act of 1920 (30 U.S.C. 185);

6. Rights-of-way N-42592 and N-82352 for power line purposes granted to Nevada Power Company, its successors or assigns, pursuant to section 501 of FLPMA (43 U.S.C. 1761);

7. Right-of-way N-61878 for water pipeline purposes granted to Southern Nevada Water Authority, its successors and assigns, pursuant to section 501 of FLPMA (43 U.S.C. 1761);

8. Rights-of-way N-76342 and N-7634201 for fiber optic facility and work area purposes, respectively, granted to Nevada Power Company, its successors and assigns, pursuant to section 501 of FLPMA (43 U.S.C. 1761); and

9. An appropriate indemnification clause protecting the United States from claims arising out of lessee's/patentee's use, occupancy, or operations on the leased/patented real property.

Upon publication of this notice in the Federal Register, the land described above will be segregated from all other forms of appropriation under the public land laws, including the general mining laws, except for lease or conveyance under the R&PP Act, leasing under the mineral leasing laws, and disposals under the mineral material disposal laws.

Interested parties may submit written comments regarding the specific use proposed in the application and plan of development, whether BLM followed proper administrative procedures in reaching the decision to lease and subsequently convey under the R&PP Act, or any other factor not directly related to the suitability of the land for R&PP use. Any adverse comments will be reviewed by the BLM Nevada State Director, who may sustain, vacate, or modify this realty action. In the absence of any adverse comments, this realty action will become the final determination of the Department of the Interior.

Before including your address, phone number, e-mail address, or other personal identifying information in your comment, you should be aware that your entire comment—including your personal identifying information—may be made publicly available at any time. While you may ask us in your comment to withhold your personal identifying information from public review, we cannot guarantee that we will be able to do so. Only written comments submitted by postal service or overnight mail to the Field Manager, BLM Las Vegas Field Office, will be considered properly filed. Electronic mail, facsimile, or telephone comments will not be considered properly filed.

In the absence of any adverse comments, the decision will become effective January 11, 2010. The lands will not be available for lease or subsequent conveyance until after the decision becomes effective.

(Authority: 43 CFR 2741.5)

Kimber Liebhauser,
Assistant Field Manager, Division of Lands.

[FR Doc. E9-27089 Filed 11-10-09; 8:45 am]

BILLING CODE 4310-HC-P